DEPARTMENT OF COMMERCE

International Trade Administration

[A-201-838]

Seamless Refined Copper Pipe and Tube From Mexico: Notice of Initiation of Antidumping Duty New Shipper Review

AGENCY: Import Administration, International Trade Administration, Department of Commerce.

SUMMARY: The Department of Commerce (the Department) has received a request for a new shipper review of the antidumping duty order on seamless refined copper pipe and tube (copper pipe and tube) from Mexico. See Seamless Refined Copper Pipe and Tube From Mexico and the People's Republic of China: Antidumping Duty Orders and Amended Final Determination of Sales at Less Than Fair Value From Mexico, 75 FR 71070 (November 22, 2010) (Order). In accordance with section 751(a)(2)(B) of the Tariff Act of 1930, as amended (the Act), and 19 CFR 351.214(d), the Department is initiating an antidumping duty new shipper review of GD Affiliates S.de R.L. de C.V. (GD). The period of review (POR) of this new shipper review is November 22, 2010, through April 30, 2011.

DATES: Effective Date: July 7, 2011.

FOR FURTHER INFORMATION CONTACT: Dennis McClure or Christopher Hargett, AD/CVD Operations, Office 3, Import Administration, International Trade Administration, U.S. Department of Commerce, 14th Street and Constitution Avenue, NW., Washington, DC 20230, telephone: (202) 482-5973 or (202) 482-4161, respectively.

SUPPLEMENTARY INFORMATION:

Background

On November 22, 2010, the Department published the antidumping duty order on copper pipe and tube from Mexico. See Order. Thus, the order on copper pipe and tube from Mexico has a May semi-annual anniversary month. On May 31, 2011, the Department received a request for a new shipper review from GD in accordance with 19 CFR 351.214(c). In its request for a review, GD identified itself as a producer and exporter of the subject merchandise. For the purpose of initiating this new shipper review, the Department determines that GD's submission was timely filed.

Pursuant to the requirements set forth in section 751(a)(2)(B)(i) of the Act and 19 CFR 351.214(b)(2), GD certified that (1) it did not export subject merchandise to the United States during the period of investigation (POI) (see section 751(a)(2)(B)(i)(I) of the Act and 19 CFR 351.214(b)(2)(i)); and (2) since the initiation of the investigation, it has never been affiliated with any company that exported subject merchandise to the United States during the POI, including those companies not individually examined during the investigation (see section 751(a)(2)(B)(i)(II) of the Act and 19 CFR 351.214(b)(2)(iii)(A)). Additionally, in accordance with 19 CFR 351.214(b)(2)(iv), GD submitted documentation establishing the following: (1) The date on which it first shipped subject merchandise to the United States; (2) the volume of its first shipment; and (3) the date of its first sale to an unaffiliated purchaser for exportation to the United States. GD also stated it had shipments to the United States during the period subsequent to its first shipment.

Initiation of Review

Based on information on the record and in accordance with section 751(a)(2)(B) of the Act, and 19 CFR 351.214(d), we find that the request submitted by GD meets the statutory and regulatory requirements for initiation of a new shipper review. See Memorandum to the File, through Melissa Skinner, Office Director, Office 3, AD/CVD Operations, from Christopher Hargett, Case Analyst, Office 3, AD/CVD Operations, regarding “Initiation of AD New Shipper Review: Seamless Refined Copper Pipe and Tube from Mexico (A-201-838),” dated June 28, 2011. Accordingly, we are initiating a new shipper review of the antidumping duty order on copper pipe and tube from Mexico exported by GD, for the period November 22, 2010, through April 30, 2011. We intend to issue the preliminary results of this review no later than 180 days after the date on which this review is initiated, and the final results within 90 days after the date on which we issue the preliminary results. See section 751(a)(2)(B)(iv) of the Act and 19 CFR 351.214(h)(i).

We will instruct U.S. Customs and Border Protection (CBP) to allow, at the option of the importer, the posting, until the completion of the review, of a bond or security in lieu of a cash deposit for certain entries of the subject merchandise exported by GD in accordance with section 751(a)(2)(B)(iii) of the Act and 19 CFR 351.214(e). Because GD certified that it exports the subject merchandise, the sale of which forms the basis for its new shipper review request, we will instruct CBP to permit the use of a bond only for entries of subject merchandise which GD exported.

Interested parties may submit applications for disclosure under administrative protective order in accordance with 19 CFR 351.305 and 351.306.

This initiation and this notice are issued and published in accordance with section 751(a)(2)(B) of the Act and 19 CFR 351.214 and 351.221(c)(1)(i).

Dated: June 28, 2011.
Christian Marsh,
Deputy Assistant Secretary for Antidumping and Countervailing Duty Operations.

[FR Doc. 2011-17063 Filed 7-6-11; 8:45 am]

BILLING CODE 3510-DS-P